DEPARTMENT OF DEFENSE

Defense Finance and Accounting Service; Privacy Act of 1974; Systems of Records

AGENCY: Defense Finance and Accounting Service, DoD.

ACTION: Notice To Amend a System of Records; T7332c Bankruptcy Processing Files.

SUMMARY: The Defense Finance and Accounting Service is amending a system of records notice to its existing inventory of record systems subject to the Privacy Act of 1974 (5 U.S.C. 552a), as amended.

DATES: This action will be effective without further notice on September 23, 2005 unless comments are received that would result in a contrary determination.

ADDRESSES: Send comments to Ms. Linda Krabbenhoft, Freedom of Information Act/Privacy Act Program Manager, Defense Finance and Accounting Service, Denver, 6760 E. Irvington Place, Denver, CO 80279-8000, telephone (303) 676-6045.

FOR FURTHER INFORMATION CONTACT: Ms. Linda Krabbenhoft at (303) 676-6045.

SUPPLEMENTARY INFORMATION: The Defense Finance and Accounting Service notices for systems of records subject to the Privacy Act of 1974 (5 U.S.C. 552a), as amended, have been published in the Federal Register and are available from the address above.

The specific changes to the record system being amended are set forth below followed by the notice, as amended, published in its entirety. The proposed amendment is not within the purview of subsection (r) of the Privacy Act of 1974, (5 U.S.C. 552a), as amended, which requires the submission of a new or altered system report.

Dated: August 17, 2005.
Jeannette Owings-Ballard,
OSD Federal Register Liaison Officer, Department of Defense.

T7332c

SYSTEM NAME:

Bankruptcy Processing Files (January 7, 1999, 64 FR 1005).

Changes:

* * * * *

Retention and disposal:

Delete entry and replace with “Destroy 6 years and 3 months after closure of the case.”

* * * * *

T7332c

SYSTEM NAME:

Bankruptcy Processing Files.

SYSTEM LOCATION:

Defense Finance and Accounting Service—Indianapolis Center, 8899 E. 56th Street, Indianapolis, IN 46249-0001.

Defense Finance and Accounting Service—Cleveland Center, 1240 East Ninth Street, Cleveland, OH 44199-2055.

Defense Finance and Accounting Service—Denver Center, 6760 East Irvington Place, Denver, CO 80279-5000.

Defense Finance and Accounting Service—Columbus Center, 4280 East 5th Avenue, Columbus, OH 43219-1879.

Defense Finance and Accounting Service—Kansas City Center, 1500 East 95th Street, Kansas City, MO 64197-0001.

CATEGORIES OF INDIVIDUALS COVERED BY THE SYSTEM:

Army, Air Force, Marine, and Navy military members, and Department of Defense civilian employees for whom bankruptcy notice has been received.

Employees of the Executive Office of the President for whom bankruptcy notice has been received.

CATEGORIES OF RECORDS IN THE SYSTEM:

Individual's court notices, financial statements, certificates for deductions; agreements, military pay vouchers, correspondence between DFAS General Counsel and subordinate units, United States Attorneys, United States District Courts, and other Government agencies relevant to the proceeding.

AUTHORITY FOR MAINTENANCE OF THE SYSTEM:

5 U.S.C. 301, Departmental Regulations; 10 U.S.C. 137; 11 U.S.C. 101 et seq.; 31 U.S.C. 3711 and E.O. 9397 (SSN).

PURPOSE(S):

To maintain such information pertaining to individuals who have filed for bankruptcy so that the Department of Defense may take appropriate action, either as an employer or a creditor, to protect its legal obligations and interests arising out of, or as a result of, the bankruptcy proceeding.

ROUTINE USES OF RECORDS MAINTAINED IN THE SYSTEM, INCLUDING CATEGORIES OF USERS AND THE PURPOSES OF SUCH USES:

In addition to those disclosures generally permitted under 5 U.S.C. 552a(b) of the Privacy Act, these records or information contained therein may specifically be disclosed outside the DoD as a routine use pursuant to 5 U.S.C. 552a(b)(3) as follows:

To Executive and Judicial Branch entities to provide necessary and appropriate information for purposes related to, or in furtherance of, judicial or administrative proceedings involving an individual who has filed for bankruptcy.

The ‘Blanket Routine Uses’ published at the beginning of the DFAS compilation of systems of records notices apply to this system.

DISCLOSURE TO CONSUMER REPORTING AGENCIES:

Disclosures pursuant to 5 U.S.C. 552a(b)(12) may be made from this system to ‘consumer reporting agencies’ as defined in the Fair Credit Reporting Act, 15 U.S.C. 1681a(f) or the Federal Claims Collection Act of 1966, 31 U.S.C. 3701(a)(3).

The disclosure is limited to information necessary to establish the identity of the individual, including name, address, and taxpayer identification number (Social Security Number); the amount, status, and history of the claim; and the agency or program under which the claim arose for the sole purpose of allowing the consumer reporting agency to prepare a commercial credit report.

POLICIES AND PRACTICES FOR STORING, RETRIEVING, ACCESSING, RETAINING, AND DISPOSING OF RECORDS IN THE SYSTEM:

STORAGE:

Paper records in file folders.

RETRIEVABILITY:

Filed by individual's name and/or Social Security Number.

SAFEGUARDS:

Records are accessed by person(s) responsible for servicing and authorized to use the record system in performance of their official duties who are properly screened and cleared for need-to-know. Additionally, at some Centers, records are in office buildings protected by guards and controlled by personnel screening and visitor registers.

RETENTION AND DISPOSAL:

Destroy 6 years and 3 months after closure of the case.

SYSTEM MANAGER(S) AND ADDRESS:

Assistant General Counsel, Defense Finance and Accounting Service—Columbus Center, 4280 East 5th Avenue, Columbus, OH 43219-1879; Assistant General Counsel, Defense Finance and Accounting Service—Indianapolis Center, 8899 E. 56th Street, Indianapolis, IN 46249-0001;

Assistant General Counsel, Defense Finance and Accounting Service—Cleveland Center, 1240 East Ninth Street, Cleveland, OH 44199-2055;

Assistant General Counsel for Garnishment Operations, Defense Finance and Accounting Service—Cleveland Center, 1240 East Ninth Street, Cleveland, OH 44199-8002;

Assistant General Counsel, Defense Finance and Accounting Service—Denver Center, 6760 East Irvington Place, Denver, CO 80279-5000; Assistant General Counsel, Defense Finance and Accounting Service—Kansas City Center, 1500 East 95th Street, Kansas City, MO 64197-0001.

NOTIFICATION PROCEDURE:

Individuals seeking to determine whether information about themselves is contained in this system of records should address written inquiries to the Privacy Act Officer at the appropriate DFAS Center.

Individuals should provide name and Social Security Number.

RECORD ACCESS PROCEDURES:

Individuals seeking access to information about themselves contained in this system of records should address written inquiries to the Privacy Act Officer at the appropriate DFAS Center.

Individuals should provide name and Social Security Number.

CONTESTING RECORD PROCEDURES:

The DFAS rules for accessing records, for contesting contents and appealing initial agency determinations are published in DFAS Regulation 5400.11-R; 32 CFR part 324; or may be obtained from the Freedom of Information/Privacy Act Program Manager, Office of Corporate Communications, 6760 E. Irvington Place, Denver, CO 80279-8000.

RECORD SOURCE CATEGORIES:

From courts, Government records, and similar documents and sources relevant to the proceeding.

EXEMPTIONS CLAIMED FOR THE SYSTEM:

None.

[FR Doc. 05-16668 Filed 8-23-05; 8:45 am]

BILLING CODE 5001-06-P